DEPARTMENT OF HEALTH AND HUMAN SERVICES

Centers for Disease Control and Prevention

[30DAY-22-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

Assessment of Exposure to Arsenic through Household Water—New—National Center for Environmental Health (NCEH). Arsenic is a naturally occurring element present in food and water as both inorganic and organic complexes. Epidemiologic evidence shows a strong link between ingestion of water containing inorganic arsenic and an increase in a wide variety of cancers (e.g., bladder cancer). Consumption of contaminated food is the major source of arsenic exposure for the majority of United States citizens. There are some areas of the United States where elevated levels of arsenic in water occur with appreciable frequency. In such areas, ingestion of water can be the dominant source of arsenic exposure. Currently, the preferred method of treatment of private, domestic well water containing elevated levels of arsenic is point-of-use (POU) devices. The acceptability of bottled water and POU treatment systems as effective means of managing arsenic exposure is based on the assumption that other water exposures such as bathing, brushing of teeth, cooking, and occasional water consumption from other taps contribute relatively minor amounts to a person's total daily intake of arsenic.

We propose to conduct a study to methodically test the validity of the commonly-made assumption that secondary exposures such as bathing will not result in a significant increase in arsenic intake over background dietary levels. Specifically, we are interested in assessing urine arsenic levels among individuals where ingestion of arsenic-containing water is controlled by either POU treatment or use of bottled water, combined with use of short-term diaries to record diet, water consumption, and bathing frequency. Total annual burden is 510.

Respondents | Number of respondents | Responses/respondent | Average burden response (in hours)
Prescreening postcard completion | 1,000 | 1 | 5/60
Recruiting telephone interview | 320 | 1 | 15/60
Survey interview (in person) | 520 | 1 | 30/60
Biologic specimen collection | 520 | 1 | 10/60

Dated: April 20, 2000.
Charles W. Gollmar,
Acting Associate Director for Policy, Planning and Evaluation, Centers for Disease Control and Prevention (CDC).

[FR Doc. 00-10351 Filed 4-25-00; 8:45 am]

BILLING CODE 4163-18-P